FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than June 16, 2006.

A. Federal Reserve Bank of Richmond (A. Linwood Gill, III, Vice President) 701 East Byrd Street, Richmond, Virginia 23261-4528:

1. Capital One Financial Corporation, McLean, Virginia; to merge with North Fork Bancorporation, Inc., Melville, New York, and thereby indirectly acquire voting shares of North Fork Bank, Mattituck, New York, and Superior Savings of New England, National Association, Branford, Connecticut.

In connection with this application, Applicant also has applied to acquire up to 19.9 percent of the voting shares of North Fork Bancorporation, Inc., Melville, New York.

In addition, North Fork Bancorporation, Inc., Melville, New York; has applied to acquire up to 19.9 percent of the voting shares of Capital One Financial Corporation, McLean, Virginia.

B. Federal Reserve Bank of Kansas City (Donna J. Ward, Assistant Vice President) 925 Grand Avenue, Kansas City, Missouri 64198-0001:

1. Quay Bank Corp., Albuquerque, New Mexico; to become a bank holding company by acquiring 100 percent of the voting shares of High Desert State Bank, Albuquerque, New Mexico.

C. Federal Reserve Bank of San Francisco (Tracy Basinger, Director, Regional and Community Bank Group) 101 Market Street, San Francisco, California 94105-1579:

1. Concord Place, Inc., Nassau, Bahamas; to become a bank holding company by acquiring at least 76.6 percent of the voting shares of Los Angeles National Bank, Buena Park, California.

Board of Governors of the Federal Reserve System, May 18, 2006.
Robert deV. Frierson,
Deputy Secretary of the Board.

[FR Doc. E6-7821 Filed 5-22-06; 8:45 am]

BILLING CODE 6210-01-S